INTERNATIONAL TRADE COMMISSION

[Investigation No. 337-TA-523]

In the Matter of Certain Optical Disk Controller Chips and Chipsets and Products Containing the Same, Including DVD Players and PC Optical Storage Devices II; Notice of Commission Decision Not To Review an Initial Determination Extending the Target Date for Completion of the Investigation

AGENCY: U.S. International Trade Commission.

ACTION: Notice.

SUMMARY: Notice is hereby given that the U.S. International Trade Commission has determined not to review an initial determination (“ID”) issued by the presiding administrative law judge (“ALJ”) extending the target date for completion of the of the above-captioned investigation until January 30, 2006.

FOR FURTHER INFORMATION CONTACT: Timothy P. Monaghan, Esq., Office of the General Counsel, U.S. International Trade Commission, 500 E Street, SW., Washington, DC 20436, telephone 202-205-3152. Copies of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: This patent-based section 337 investigation was instituted by the Commission on Aug. 31, 2004, based on a complaint filed by Media Tek, Inc., of Hsin-Chu City, Taiwan. 69 FR 53098 (Aug. 31, 2004). The complainant alleged violations of section 337 in the importation and sale of certain optical disk controller chips and chipsets and products containing the same, including DVD players and PC optical storage devices by reason of infringement of certain claims of U.S. Patent Nos. 5,970,031; 6,229,773; 6,170,043.

On June 21, 2005, the ALJ issued an ID (Order No. 74) extending the target date of the investigation by two months, i.e., until January 30, 2006. No party petitioned for review of the ID.

The authority for the Commission's determination is contained in section 337 of the Tariff Act of 1930, as amended (19 U.S.C. 1337), and in section 210.42 of the Commission's Rules of Practice and Procedure (19 CFR 210.42).

By order of the Commission.
Issued: July 13, 2005.
Marilyn R. Abbott,
Secretary to the Commission.

[FR Doc. 05-14044 Filed 7-15-05; 8:45 am]

BILLING CODE 7020-02-P